DEPARTMENT OF HOUSING AND URBAN DEVELOPMENT

[Docket No. FR-4655-N-22]

Notice of Proposed Information Collection: Comment Request; Housing Counseling Program

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: November 26, 2001.

ADDRESSES: Interested persons are invited to submit comments regarding this proposal. Comments should refer to the proposal by name and/or OMB Control Number and should be sent to: Wayne Eddins, Reports Management Officer, Department of Housing and Urban Development, 451 7th Street, SW, L'Enfant Plaza Building, Room 8001, Washington, DC 20410.

FOR FURTHER INFORMATION CONTACT: Meg Burns, Director, Program Support Division, Department of Housing and Urban Development, 451 7th Street SW, Washington, DC 20410, telephone (202) 708-0317 x3989 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed information collection will serve as an appropriate measure of the activities and the performance of housing counseling agencies; (2) Evaluate the accuracy of the agency's estimate of the burden of the proposed collection of information; (3) Enhance the quality, utility, and clarity of the information to be collected; and (4) Minimize the burden of the collection of information on those who are to respond, including the use of appropriate automated collection techniques or other forms of information technology, e.g., permitting electronic submission of responses.

The Department is especially interested in learning whether the proposed information collection changes are sufficient to determine and measure performance in the Housing Counseling Program.

This Notice also lists the following information:

Title of Proposal: Housing Counseling Program.

OMB Control Number, if applicable: 2502-0261.

Description of the need for the information and proposed use: Section 106 of the Housing and Community Development Act of 1974 authorizes HUD to contract with organizations to provide counseling to tenants and homeowners to assist them in improving their housing conditions and in meeting the responsibilities of tenancy and home ownership. Counseling agencies are required to submit their qualifications to provide such services. HUD-approved agencies can compete for program funds. Successful grant applicants are required to submit performance data to enable HUD to evaluate the effectiveness of the program.

Agency form numbers, if applicable: HUD-9900, HUD-9902, and HUD-9908.

Estimation of the total numbers of hours needed to prepare the information collection including number of respondents, frequency of response, and hours of response: The total number of responses is 2,675. Frequency of reporting is annual for each of the three forms. Total response hours are 1,940: HUD-9900, 8 hours; HUD-9902, 1 hour; and HUD-9908, 10 minutes. The HUD-9900 consolidates and replaces the HUD-9900-A, HUD-9900-B, and HUD-9900-C. Two forms approved under the previous information collection request, HUD-9903 and HUD-9921, are deleted.

Status of the proposed information collection: Revision of currently approved collection.

Authority: The Paperwork Reduction Act of 1995, 44 U.S.C., Chapter 35, as amended.

Dated: September 19, 2001.
Sean Cassidy,
General Deputy Assistant Secretary for Housing.

[FR Doc. 01-24006 Filed 9-25-01; 8:45 am]

BILLING CODE 4210-27-M